SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 28, 2005.

ADDRESSES: Send all comments regarding whether these information collections are necessary for the proper performance of the function of the agency, whether the burden estimates are accurate, and if there are ways to minimize the estimated burden and enhance the quality of the collections, to Johnny Kitts, Chief Fund Administrator, Office of Investment, Small Business Administration, 409 3rd Street SW., Suite 6300, Wash, DC 20416.

FOR FURTHER INFORMATION CONTACT: Johnny Kitts, Chief, Fund Administrator, 202-205-7587 johnny.kitts@sba.gov Curtis B. Rich, Management Analyst, 202-205-7030 curtis.rich@sba.sba.

SUPPLEMENTARY INFORMATION:

Title: “25-Model Corp. Resol. or GP Certif., 33-Model Letter to Selling Agent 34-Bank ID, 1065 Appl, Lic. Assure. of Compliance.”

Description of Respondents: Applicants for SBA-guaranteed leverage.

Form No: 25, 33, 34, and 1065.

Annual Responses: 125.

Annual Burden: 110.

ADDRESSES: Send all comments regarding whether these information collections are necessary for the proper performance of the function of the agency, whether the burden estimates are accurate, and if there are ways to minimize the estimated burden and enhance the quality of the collections, to Louis Cupp, New Markets Policy, Office of Investment, Small Business Administration, 409 3rd Street SW., Suite 6300, Wash, DC 20416.

FOR FURTHER INFORMATION CONTACT: Louis Cupp, New Markets Policy Analysis, 202-619-0511 louis.cupp@sba.gov Curtis B. Rich, Management Analyst, 202-205-7030 curtis.rich@sba.sba.

Title: “NMVC Program Application Interview Questions: SSBIC Applicant Tech, Proposal: Request for Approval of Management Services Fees.”

Description of Respondents: Program Applicants and participants; SSBIC'S receiving grants under the NMVC program.

Form No: 2215, 2216 and 2217.

Annual Responses: 38.

Annual Burden: 91.

ADDRESSES: Send all comments regarding whether this information collection is necessary for the proper performance of the function of the agency, whether the burden estimates are accurate, and if there are ways to minimize the estimated burden and enhance the quality of the collection, to Robert Dillier, Public Affairs Specialist, Office of Communications and Public Liaison, Small Business Administration, 409 3rd Street SW., Suite 7450, Wash, DC 20416

FOR FURTHER INFORMATION CONTACT: Robert Dillier, Public Affairs, 202-205-6086 robert.dillier@sba.gov or Curtis B. Rich, Management Analyst, 202-205-7030 curtis.rich@sba.sba.

Title: “Voluntary Customer Surveys in accordance with E.O. 12862.”

Description of Respondents: SBA Customers.

Form No: N/A.

Annual Responses: 33,115.

Annual Burden: 11,038.

Jacqueline White,
Chief, Administrative Information Branch.

[FR Doc. 05-1323 Filed 1-24-05; 8:45 am]

BILLING CODE 8025-01-P